DEPARTMENT OF STATE

[Public Notice: 10443]

Cultural Property Advisory Committee; Notice of Meeting

AGENCY: Department of State.

ACTION: Notice of a meeting.

SUMMARY: The Department of State is issuing this notice to announce the location, date, time, and agenda for the next meeting of the Cultural Property Advisory Committee.

DATES: July 31 through August 2, 2018, 10:00 a.m. to 5:00 p.m. (EDT). The open session of the Cultural Property Advisory Committee will be held on July 31, 2018, at 10:30 a.m. (EDT). It will last approximately an hour and a half. Participants will participate electronically. Those who wish to participate in the open session should visit http://culturalheritage.state.gov where information will be provided on how to access the meeting. If needed, please request reasonable accommodation not later than July 15 by contacting the Bureau of Educational and Cultural Affairs at culprop@state.gov. It may not be possible to accommodate requests made after that date.

Written Comments: Must be received no later than July 15, 2018, at 11:59 p.m. (EDT).

ADDRESSES: The public will participate electronically. The members will meet at the U.S. Department of State, Annex 5, 2200 C St. NW and the Harry S. Truman Building, 2201 C St. NW, Washington, DC.

Comments: Methods of written comment submission are as follows:

Electronic Comments: Use http://www.regulations.gov, enter the docket [DOS-2018-0022] and follow the prompts to submit comments.

Paper Comments: If comments contain privileged or confidential information (within the meaning of 19 U.S.C. 2605(i)(1)), you may send comments to: U.S. Department of State, Bureau of Educational and Cultural Affairs—Cultural Heritage Center, SA-5 Floor 5, 2200 C St. NW, Washington, DC 20522-0505.

FOR FURTHER INFORMATION CONTACT: For general questions concerning the meeting, contact Andrew Cohen, Bureau of Educational and Cultural Affairs—Cultural Heritage Center by phone, (202) 632-6301, or email: culprop@state.gov.

SUPPLEMENTARY INFORMATION: Pursuant to section 306(e)(2) of the Convention on Cultural Property Implementation Act (5 U.S.C. 2601 et seq.) (“the Act”), the Assistant Secretary of State for Educational and Cultural Affairs calls a meeting of the Cultural Property Advisory Committee (”the Committee”). The Committee's responsibilities are carried out in accordance with provisions of the Act. A portion of this meeting will be closed to the public pursuant to 5 U.S.C. 552b(c)(9)(B) and 19 U.S.C. 2605.

Meeting Agenda: The Committee will review the request by the Government of Algeria seeking import restrictions on archaeological and ethnological material. The Committee will also review a proposal to extend the Memorandum of Understanding between the Government of United States of America and the Government of the Republic of Honduras Concerning the Imposition of Import Restrictions on Archaeological Material from the Pre-Columbian Cultures of Honduras and Ecclesiastical Ethnological Material from the Colonial Period of Honduras (“the Honduras MOU”). The Committee will also review a proposal to extend the Memorandum of Understanding between the Government of United States of America and the Government of the Republic of Bulgaria Concerning the Imposition of Import Restrictions on Categories of Archaeological and Ecclesiastical Ethnological Material of the Republic of Bulgaria (“the Bulgaria MOU”).

Open Session Participation: An open session of the meeting to receive oral public comments on the Algeria request and the proposed extensions of the Honduras MOU and the Bulgaria MOU will be held Tuesday, July 31, 2018, from 10:30 a.m. to approximately 12:00 p.m. (EDT). Instructions on calling in to the meeting, the text of the Act, a summary of the Government of Algeria's request, and copies of the Honduras MOU and the Bulgaria MOU may be found at http://culturalheritage.state.gov. If you wish to make an oral presentation at the meeting, you must: (1) Request to be scheduled by July 15, 2018, via email (culprop@state.gov); and (2) submit a written summary of your oral presentation, ensuring that it is submitted no later than 11:59 p.m. (EDT) on July 15, 2018, on the Regulations.gov website listed in the “COMMENTS” section above. Oral comments will be limited to five (5) minutes to allow time for questions from members of the Committee. All oral comments must relate specifically to matters referred to in 19 U.S.C. 2602(a)(1), with respect to which the Committee makes its findings and recommendations. Oral presentation to the Committee may be requested but, due to time constraints, is not guaranteed.

Written Comments: If you do not wish to make oral comments but still wish to make your views known, you may submit written comments for the Committee to consider. Written comments from outside interested parties regarding the Algeria request and the proposed extensions of the Honduras MOU and the Bulgaria MOU must be received submitted to the Regulations.gov website listed in the “COMMENTS” section above no later than July 15, 2018, at 11:59 p.m. (EDT). Your written comments should relate specifically to the matters referred to in 19 U.S.C. 2602(a)(1). The Department requests that any party soliciting or aggregating written comments received from other persons for submission to the Department inform those persons that the Department will not edit their comments to remove any identifying or contact information and that they therefore should not include any such information in their comments that they do not want publicly disclosed. Written comments submitted in electronic form are not private. The Department will post the comments at http://www.regulations.gov. Because written comments cannot be edited to remove any personally identifying or contact information, the U.S. Department of State cautions against including any information in an electronic submission that one does not want publicly disclosed (including trade secrets and commercial or financial information that are privileged or confidential within the meaning of 19 U.S.C. 2605(i)(1)).

Marie Therese Porter Royce,
Assistant Secretary, Bureau of Educational and Cultural Affairs Department of State.

[FR Doc. 2018-12676 Filed 6-12-18; 8:45 am]

BILLING CODE 4710-05-P